DEPARTMENT OF ENERGY

Federal Energy Regulatory Commission

[Project No. 14799-001]

Lock 13 Hydro Partners, LLC; Notice of Application Tendered for Filing With the Commission and Soliciting Additional Study Requests

Take notice that the following hydroelectric application has been filed with the Commission and is available for public inspection.

a. Type of Application: Original Major License.

b. Project No.: P-14799-001.

c. Date filed: July 1, 2019.

d. Applicant: Lock 13 Hydro Partners, LLC.

e. Name of Project: Evelyn Hydroelectric Project.

f. Location: On the Kentucky River, in Lee and Estill Counties, Kentucky. The project would be located at the Commonwealth of Kentucky's existing Lock and Dam No. 13. No federal land would be occupied by the project works or located within the project boundary.

g. Filed Pursuant to: Federal Power Act 16 U.S.C. 791(a)-825(r).

h. Applicant Contact: David Brown Kinloch, Lock 13 Hydro Partners, LLC, 414 S Wenzel Street, Louisville, KY 40204; (502) 589-0975; email—kyhydropower@gmail.com.

i. FERC Contact: Sarah Salazar, (202) 502-6863 or sarah.salazar@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: August 30, 2019.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14799-001.

m. The application is not ready for environmental analysis at this time.

n. The proposed Evelyn Project would be operated in a run-of-river mode and would consist of: (1) An existing estimated 223-acre impoundment at a pool elevation of 617.38 feet mean sea level (North American Vertical Datum of 1988); (2) an existing concrete dam with a 246-foot-long, 34-foot-wide, and 38.2-foot-high spillway and a 148-foot-long, 38.2-foot-high, and 52-foot-wide lock chamber; (3) a new 73-foot-long by 52-foot-wide reinforced concrete powerhouse that would be submerged in the existing lock chamber, with five Flygt axial-flow propeller turbine generator units each rated at 560-kilowatts (kW), for a total installed capacity of 2.8 MW; (4) a new 110-foot-long buried cable transmitting power from the submerged powerhouse to a new two story, 48-foot-long by 30-foot-wide Control Building onshore which would house the project controls; (5) a new 600-foot-long, 12.47-kilovolt overhead transmission line that would connect to an existing Jackson Energy Cooperative line of the same voltage; and (6) appurtenant facilities. The estimated average annual generation would be 11,274 megawatt-hours.

o. A copy of the application is available for review at the Commission in the Public Reference Room or may be viewed on the Commission's website at http://www.ferc.gov using the eLibrary link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule: The application will be processed according to the following preliminary Hydro Licensing Schedule. Revisions to the schedule will be made as appropriate.

Issue Notice of Acceptance—December 2019

Issue notice of ready for environmental analysis—December 2019

Commission issues EA—August 2020

Comments on EA—September 2020

Dated: July 15, 2019.
Kimberly D. Bose,
Secretary.

[FR Doc. 2019-15466 Filed 7-19-19; 8:45 am]

BILLING CODE 6717-01-P